DEPARTMENT OF COMMERCE

International Trade Administration

[A-307-805, A-559-502, A-122-506, A-583-505]

Revocation of Antidumping Duty Orders: Circular Welded Non-Alloy Steel Pipe and Tube From Venezuela; Small Diameter Standard and Rectangular Pipe and Tube From Singapore; and Oil Country Tubular Goods From Canada and Taiwan

AGENCY: Import Administration, International Trade Administration, Department of Commerce.

ACTION: Notice of revocation of antidumping duty orders: circular welded non-alloy steel pipe and tube from Venezuela, small diameter standard and rectangular pipe and tube from Singapore; and oil country tubular goods from Canada and Taiwan.

SUMMARY: On December 1, 1999 and December 3, 1999, the Department of Commerce (“the Department”), pursuant to sections 751(c) and 752 of the Tariff Act of 1930, as amended (“the Act”), determined that revocation of the antidumping duty orders on circular welded non-alloy steel pipe and tube from Venezuela, small diameter standard and rectangular pipe and tube from Singapore, and oil country tubular goods (“OCTG”) from Canada and Taiwan, is likely to lead to continuation or recurrence of dumping. See 64 FR 67854, 67873, 67248.

On August 9, 2000, the International Trade Commission (“the Commission”), pursuant to section 751(c) of the Act, determined that revocation of the antidumping duty orders on circular welded non-alloy steel pipe and tube from Venezuela, small diameter standard and rectangular pipe and tube from Singapore, and OCTG from Canada and Taiwan would not be likely to lead to continuation or recurrence of material injury to an industry in the United States within a reasonably foreseeable time. See 65 FR 48733 (August 9, 2000). Therefore, pursuant to 19 CFR 351.218(f)(4), the Department is publishing notice of revocation of the antidumping duty orders on circular welded non-alloy steel pipe and tube from Venezuela, small diameter standard and rectangular pipe and tube from Singapore, and OCTG from Canada and Taiwan.

Effective Date of Revocation: January 1, 2000.

FOR FURTHER INFORMATION CONTACT: Martha V. Douthit or James P. Maeder, Office of Policy for Import Administration, International Trade Administration, U.S. Department of Commerce, 14th Street and Constitution Ave., NW, Washington, D.C. 20230; telephone: (202) 482-5050 or (202) 482-3330, respectively.

SUPPLEMENTARY INFORMATION:

Background

On May 3, 1999, the Department initiated, and the Commission instituted sunset reviews (64 FR 64 FR 23596 and 64 FR 23679) of the antidumping duty orders on circular welded non-alloy steel pipe and tube from Venezuela, small diameter standard and rectangular pipe and tube from Singapore, and OCTG from Canada and Taiwan pursuant to section 751(c) of the Act. As a result of its reviews, the Department found on December 1, 1999 and December 3, 1999 that revocation of the antidumping duty orders on circular welded non-alloy steel pipe and tube from Venezuela, small diameter standard and rectangular pipe and tube from Singapore, and OCTG from Canada and Taiwan would likely lead to continuation or recurrence of dumping and notified the Commission of the magnitude of the margins likely to prevail were the order revoked. See 64 FR 67854, 67868, 67248.

On August 9, 2000, the Commission determined, pursuant to section 751(c) of the Act, that revocation of the antidumping duty orders on circular welded non-alloy steel pipe and tube from Venezuela, small diameter standard and rectangular pipe and tube from Singapore, and OCTG from Canada and Taiwan would not be likely to lead to continuation or recurrence of material injury to an industry in the United States within a reasonably foreseeable time. See Certain Pipe and Tube from Argentina, Brazil, Canada, India, Korea, Mexico, Singapore, Taiwan, Thailand, Turkey, and Venezuela, 65 FR 48733 (August 9, 2000) and USITC Publication 3316, Investigation Nos. 731-TA-537, 296, 276, 277 (Review) (July 2000).

Scope of the Orders

See Appendix.

Determination

As a result of the determination by the Commission that revocation of the antidumping duty orders is not likely to lead to continuation or recurrence of dumping and material injury to an industry in the United States, pursuant to section 751(d)(2) of the Act, and 19 CFR 351.222(i)(1), the Department hereby orders the revocation of the antidumping duty orders on circular welded non-alloy steel pipe and tube from Venezuela, small diameter standard and rectangular pipe and tube from Singapore, and OCTG from Canada and Taiwan.

The Department will instruct the U.S. Customs Service to discontinue the suspension of liquidation and collection of cash deposit rates on entries of the subject merchandise entered or withdrawn from warehouse on or after January 1, 2000. The effective date of revocation of these antidumping duty orders is January 1, 2000.

Dated: August 16, 2000.
Troy H. Cribb,
Acting Assistant Secretary for Import Administration.

Appendix—Scope of the Orders

Venezuela—Circular Welded Non-Alloy Steel Pipe and Tube (A-307-805)

The subject merchandise covered in this review is circular welded non-alloy steel pipe and tube from Venezuela. The product consists of circular cross-section, not more than 406.4mm (16 inches) in outside diameter, regardless of wall thickness, surface finish (black, galvanized, or painted), or end finish (plain end, beveled end, threaded, or threaded and coupled). These pipe and tube are generally known as standard pipe and tube and are intended for the low-pressure conveyance of water, steam, natural gas, air and other liquids and gases in plumbing and heating systems, air-conditioning units, automatic sprinkler systems, and other related uses. Standard pipe may also be used for light load-bearing applications, such as for fence tubing, and as structural pipe tubing used for framing and as support members for reconstruction or load-bearing purposes in the construction, shipbuilding, trucking, farm equipment, and other related industries. Unfinished conduit pipe is also included in this order. All carbon-steel pipe and tube within the physical description outlined above are included within the scope of this review, except line pipe, oil country tubular goods, boiler tubing, mechanical tubing, pipe and tube hollows for redraws, finished scaffolding, and finished conduit. Standard pipe that is dual or triple certified/stenciled that enters the United States as line pipe of a kind used for oil and gas pipelines is also not included in this review. Imports of the products covered by this order are currently classifiable under the following Harmonized Tariff Schedule (“HTS”) subheadings: 7306.30.10.00, 7306.30.50.25, 7306.30.50.32, 7306.30.50.40, 7306.30.50.55, 7306.30.50.85, 7306.30.50.90. Although the HTS subheadings are provided for convenience and customs purposes, our written description of the scope of this proceeding is dispositive.

Scope Clarification: Venezuela

On March 21, 1996, in a final scope ruling, the Department determined that: (i) Pipe certified to the API 5L line pipe specification, and (ii) pipe certified to both the API 5L line pipe specifications and the less-stringent ASTM A-53 standard pipe specifications which fall within the physical parameters outlined in the scope of the order and enter as line pipe of a kind used for oil and gas pipelines are outside the scope of the antidumping duty orders on certain welded carbon steel non-alloy pipe from Venezuela, irrespective of end use.¹

¹ See Final Negative Determination of Scope Inquiry on Certain Circular Welded Non-Alloy Steel Pipe and Tube From Brazil, the Republic of Korea, Mexico and Venezuela, 61 FR 11608 (March 21, 1996)

Singapore—Small Diameter Standard and Rectangular Pipe and Tube (Light Walled Rectangular Pipe and Tube (A-559-502)

The subject merchandise in this review is light-walled rectangular pipes and tubes (“rectangular pipes”) from Singapore, which are mechanical pipes and tubes or welded carbon steel pipes and tubes of rectangular (including square) cross-section, having a wall thickness of less than 0.156 inch. Light-walled rectangular pipes and tubes are currently classifiable under item number 7306.60.5000 of the HTSUS. The HTSUS item number is provided for convenience and customs purposes only. The written product description of the scope of this order remains dispositive.

Canada and Taiwan—Oil Country Tubular Goods (“OCTG”) (A-122-506, A-583-505)

The merchandise subject to these antidumping duty orders is OCTG from Canada and from Taiwan. These include American Petroleum Institute (“API”) specification OCTG and all other pipe with the following characteristics except entries which the Department determined through its end use certification procedure were not used in OCTG applications: length of at least 16 feet; outside diameter of standard sizes published in the API or proprietary specifications for OCTG with tolerances of plus 1/8 inch for diameters less than or equal to 8 5/8 inches and plus 1/4 inch for diameters greater than 8 5/8 inches, minimum wall thickness as identified for a given outer diameter as published in the API or proprietary specifications for OCTG; a minimum of 40,000 PSI yield strength and a minimum 60,000 PSI tensile strength; and if with seams, must be electric resistance welded. Furthermore, imports covered by these orders include OCTG with non-standard size wall thickness greater than the minimum identified for a given outer diameter as published in the API or proprietary specifications for OCTG, with surface scabs or slivers, irregularly cut ends, ID or OD has not been mechanically tested or has failed those tests. The merchandise is currently classifiable under the HTSUS item numbers 7304.20, 7305.20, and 7306.20. The HTSUS item numbers are provided for convenience and customs purposes. The written description remains dispositive.

[FR Doc. 00-21396 Filed 8-21-00; 8:45 am]

BILLING CODE 3510-DS-P